DEPARTMENT OF COMMERCE

International Trade Administration

[A-570-893]

Certain Frozen Warmwater Shrimp From the People's Republic of China: Partial Rescission of the 2006/2007 Antidumping Duty Administrative Review

AGENCY: Import Administration, International Trade Administration, Department of Commerce.

DATES: Effective Date: August 22, 2007.

FOR FURTHER INFORMATION CONTACT: Anya Naschak, AD/CVD Operations, Office 9, Import Administration, International Trade Administration, U.S. Department of Commerce, 14th Street and Constitution Avenue, NW., Washington, DC 20230; telephone: (202) 482-6375.

Background

On April 6, 2007, the Department of Commerce (“the Department”) published in the Federal Register a notice of initiation listing 105 firms for which it received timely, sufficient, requests for an administrative review of this antidumping duty order. See Notice of Initiation of Administrative Reviews of the Antidumping Duty Orders on Certain Frozen Warmwater Shrimp From the Socialist Republic of Vietnam and the People's Republic of China, 72 FR 17095 (April 6, 2007) (“Initiation Notice”). The period of review (“POR”) is February 1, 2006, through January 31, 2007.

On July 5, 2007, as clarified in submissions dated July 13, 2007, and July 30, 2007, the Louisiana Shrimp Association (“LSA”) withdrew its request for an administrative review of the companies listed in Attachment I to this notice. The LSA's clarifications of its withdrawal requests by submissions dated July 13, 2007, and July 30, 2007, are considered timely because the Department requested clarification on the LSA's July 5, 2007, withdrawal requests.

Partial Rescission

Pursuant to 19 CFR 351.213(d)(1), the Department will rescind an administrative review, in whole or in part, if a party who requested the review withdraws the request within ninety days of the date of publication of notice of initiation of the requested review, and may extend this time limit if the Department decides that it is reasonable to do so. See 19 CFR 351.213(d)(1).

For seven of the companies for which the LSA withdrew its request for review, the Department has on the record of this proceeding requests for review by other parties. Therefore, the Department is not rescinding this review for: Allied Pacific (H.K.) Co., Ltd., Allied Pacific Food (Dalian) Co., Ltd., Asian Seafoods (Zhanjiang) Co., Ltd., Hai Li Aquatic Co., Ltd. Zhao An, Fujian, King Royal Investments Ltd., Zhanjiang Allied Pacific Aquaculture Co., Ltd., and Zhanjiang Evergreen Aquatic Product Science and Technology Co., Ltd. Further, the LSA has not withdrawn its request for review for Guolian Aquatic Products or Yelin Enterprise Co., Ltd. Hong Kong; the Department is not rescinding the review with respect to these entities.

Because the LSA's withdrawal of requests for review was timely and no other party requested a review of the companies listed in Attachment II to this notice, in accordance with 19 CFR 351.213(d)(1) we are rescinding this review with respect to these entities.

For those companies that submitted information stating that they did not have any shipments of subject merchandise during the POR, and for which there remains an active request for review, we will evaluate the no-shipment information and may rescind the review for such companies at a later date. With respect to the issues raised by the LSA on the identity of Guolian Aquatic Products and Zhanjiang Guolian Aquatic Products Co., Ltd., the Department will further consider these issues in the preliminary results of review, currently scheduled for October 31, 2007.

Accordingly, the following companies remain subject to this administrative review: Allied Pacific (H.K.) Co. Ltd., Allied Pacific Aquatic Products (Zhanjiang) Co., Ltd., Allied Pacific Food (Dalian) Co., Ltd., Asian Seafoods (Zhanjiang) Co., Ltd., Guolian Aquatic Products, Hai Li Aquatic Co., Ltd. Zhao An, Fujian/Haili Aquatic Co., Ltd. Zhaoan Fujian, King Royal Investments Ltd., Yelin Enterprise Co., Ltd. Hong Kong, Zhanjiang Allied Pacific Aquaculture Co., Ltd., and Zhanjiang Evergreen Aquatic Product Science and Technology Co., Ltd.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue assessment instructions to CBP 15 days after the date of publication of this notice. For those companies for which this review has been rescinded but do not have a separate rate at this time (and thus remain part of the PRC-wide entity), the Department will issue assessment instructions upon the completion of this administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act and 19 CFR 351.213(d)(4).

Dated: August 14, 2007.
Gary Taverman,
Acting Deputy Assistant Secretary for Import Administration.

Attachment I

1. Allied Pacific (H.K.) Co., Ltd.

2. Allied Pacific Aquatic Products (Zhangjiang) Co., Ltd.

3. Allied Pacific Food (Dalian) Co., Ltd.

4. Ammon International

5. Aquatic Foodstuffs FTY

6. Asian Seafoods (Zhanjiang) Co., Ltd.

7. Baofa Aquatic Products Co., Ltd.

8. Beihai Zhengwu Industry Co., Ltd.

9. Chaoyang Qiaofeng Group Co., Ltd. (Shantou Qiofeng (Group) Co., Ltd.) (Shantou/Chaoyang Qiaofeng)

10. CITIC Heavy Machinery

11. Dafu Foods Industry

12. Dalian FTZ Sea-Rich International Trading Co., Ltd.

13. Dalian Shan Li Food

14. Dalian Shanhai Seafood

15. Dongri Aquatic Products Freezing Plants

16. Dongshan Xinhefa Food

17. Fuchang Aquatic Products

18. Fuqing Yihua Aquatic Products Co., Ltd.

19. Gallant Ocean International

20. Gallant Seafoods

21. Go Harvest Aquatic Products

22. Guangzhou Lingshan Aquatic Products

23. Hai Li Aquatic Co., Ltd. Zhao An, Fujian

24. Hainan Fruit Vegetable Food Allocation Co., Ltd.

25. Hainan Golden Spring Foods Co., Ltd./Hainan Brich Aquatic Products Co., Ltd.

26. Hainan Jiadexin Foodstuff

27. Jinfu Trading Co., Ltd.

28. Jinhang Aquatic Industry

29. Kaifeng Ocean Sky Industry Co., Ltd.

30. King Royal Investments, Ltd.

31. Laiyang Hengrun Foodstuff

32. Laiyang Luhua Foodstuffs

33. Leizhou Zhulian Frozen Food Co., Ltd.

34. Longsheng Aquatic Product

35. Luk Ka Paper Industry

36. Marnex

37. Meizhou Aquatic

38. Meizhou Aquatic Products Quick-Frozen Industry Co., Ltd.

39. North Supreme Seafood (Zhejiang) Co., Ltd.

40. Ocean Freezing Industry & Trade General

41. Pingyang Xinye Aquatic Products Co., Ltd.

42. Polypro Plastics

43. Power Dekor Group Co., Ltd.

44. Red Garden Food

45. Red Garden Foodstuff

46. Rongcheng Tongda Aquatic Food

47. Ruian Huasheng Aquatic Products

48. Savvy Seafood Inc.

49. Sealord North America

50. Seatrade International

51. Shanghai Linghai Fisheries Economic and Trading Co.

52. Shantou City Qiaofeng Group

53. Shantou Freezing Aquatic Product Food Stuffs Co.

54. Shantou Jinhang Aquatic Industry Co., Ltd.

55. Shantou Jinyuan District Mingfeng Quick-Frozen Factory

56. Shantou Long Feng Foodstuffs Co., Ltd. (Shantou Longfeng Foodstuffs Co., Ltd.)

57. Shantou Longsheng Aquatic Product

58. Shantou Ocean Freezing Industry and Trade General Corporation

59. Shantou Red Garden Food Processing

60. Shantou Red Garden Foodstuff

61. Shantou Ruiyuan Industry Co., Ltd.

62. Shantou Shengping Oceanstar Business Co., Ltd.

63. Shantou Wanya Food Factory Co., Ltd.

64. Shantou Yuexing Enterprise Company

65. Silvertie Holding

66. Spectrum Plastics

67. Taizhou Zhonghuan Industrial Co., Ltd.

68. The Second Aquatic Food

69. Weifang Taihua Food

70. Weifang Yongqiang Food Ind

71. Wenling Xingdi Aquatic Products

72. Xuwen Hailang Breeding Co., Ltd.

73. Yangjiang City Yelin Hoitat Quick Frozen Seafood Co., Ltd.

74. Yantai Wei-Cheng Food Co., Ltd.

75. Yantai Xinlai Trade

76. Zhangjiang Bobogo Ocean Co., Ltd.

77. Zhanjiang Allied Pacific Aquaculture Co., Ltd.

78. Zhanjiang Evergreen Aquatic Product Science and Technology Co., Ltd.

79. Zhanjiang Go-Harvest Aquatic Products Co., Ltd.

80. Zhanjiang Regal Integrated Marine Resources Co., Ltd.

81. Zhanjiang Runhai Foods Co., Ltd.

82. Zhanjiang Universal Seafood Corp

83. Zhejiang Cereals, Oils & Foodstuff Import & Export Co., Ltd.

84. Zhejiang Daishan Baofa Aquatic Products Co., Ltd.

85. Zhejiang Evernew Seafood Co., Ltd.

86. Zhejiang Xingyang Import & Export

87. Zhejiang Xintianjiu Sea Products Co., Ltd.

88. Zhejiang Zhenlong Foodstuffs Co., Ltd.

89. Zhenjiang Evergreen Aquatic Products Science & Technology Co., Ltd.

90. Zhoushan Cereals, Oils, and Foodstuffs Import and Export Co., Ltd.

91. Zhoushan Diciyuan Aquatic Products

92. Zhoushan Guotai Aquatic Product Co., Ltd.

93. Zhoushan Haichang Food Co.

94. Zhoushan Huading Seafood Co., Ltd.

95. Zhoushan Industrial Co., Ltd.

96. Zhoushan Jingzhou Aquatic Product Co., Ltd.

97. Zhoushan Lizhou Fishery Co., Ltd.

98. Zhoushan Putuo Huafa Sea Products Co., Ltd.

99. Zhoushan Xifeng Aquatic Co., Ltd.

100. Zhoushan Zhenyang Developing Co., Ltd.

101. ZJ CNF Sea Products Engineering Ltd.

Attachment II

1. Allied Pacific Aquatic Products (Zhangjiang) Co., Ltd.

2. Ammon International

3. Aquatic Foodstuffs FTY

4. Baofa Aquatic Products Co., Ltd.

5. Beihai Zhengwu Industry Co., Ltd.

6. Chaoyang Qiaofeng Group Co., Ltd. (Shantou Qiofeng (Group) Co., Ltd.) (Shantou/Chaoyang Qiaofeng)

7. CITIC Heavy Machinery

8. Dafu Foods Industry

9. Dalian FTZ Sea-Rich International Trading Co., Ltd.

10. Dalian Shan Li Food

11. Dalian Shanhai Seafood

12. Dongri Aquatic Products Freezing Plants

13. Dongshan Xinhefa Food

14. Fuchang Aquatic Products

15. Fuqing Chaohui Aquatic Food Co., Ltd.

16. Fuqing Yihua Aquatic Products Co., Ltd.

17. Gallant Ocean International

18. Gallant Seafoods

19. Go Harvest Aquatic Products

20. Guangzhou Lingshan Aquatic Products

21. Hainan Fruit Vegetable Food Allocation Co., Ltd.

22. Hainan Golden Spring Foods Co., Ltd./Hainan Brich Aquatic Products Co., Ltd.

23. Hainan Jiadexin Foodstuff

24. Jinfu Trading Co., Ltd.

25. Jinhang Aquatic Industry

26. Kaifeng Ocean Sky Industry Co., Ltd.

27. Laiyang Hengrun Foodstuff

28. Laiyang Luhua Foodstuffs

29. Leizhou Zhulian Frozen Food Co., Ltd.

30. Longsheng Aquatic Product

31. Luk Ka Paper Industry

32. Marnex

33. Meizhou Aquatic

34. Meizhou Aquatic Products Quick-Frozen Industry Co., Ltd.

35. North Supreme Seafood (Zhejiang) Co., Ltd.

36. Ocean Freezing Industry & Trade General

37. Pingyang Xinye Aquatic Products Co., Ltd.

38. Polypro Plastics

39. Power Dekor Group Co., Ltd.

40. Red Garden Food

41. Red Garden Foodstuff

42. Rongcheng Tongda Aquatic Food

43. Ruian Huasheng Aquatic Products

44. Savvy Seafood Inc.

45. Sealord North America

46. Seatrade International

47. Shanghai Linghai Fisheries Economic and Trading Co.

48. Shantou City Qiaofeng Group

49. Shantou Freezing Aquatic Product Food Stuffs Co.

50. Shantou Jinhang Aquatic Industry Co., Ltd.

51. Shantou Jinyuan District Mingfeng Quick-Frozen Factory

52. Shantou Long Feng Foodstuffs Co., Ltd. (Shantou Longfeng Foodstuffs Co., Ltd.)

53. Shantou Longsheng Aquatic Product

54. Shantou Ocean Freezing Industry and Trade General Corporation

55. Shantou Red Garden Food Processing Co.

56. Shantou Red Garden Foodstuff

57. Shantou Ruiyuan Industry Co., Ltd.

58. Shantou Shengping Oceanstar Business Co., Ltd.

59. Shantou Wanya Food Factory Co., Ltd.

60. Shantou Yuexing Enterprise Company

61. Silvertie Holding

62. Spectrum Plastics

63. Taizhou Zhonghuan Industrial Co., Ltd.

64. The Second Aquatic Food

65. Weifang Taihua Food

66. Weifang Yongqiang Food Ind

67. Wenling Xingdi Aquatic Products

68. Xuwen Hailang Breeding Co., Ltd.

69. Yangjiang City Yelin Hoitat Quick Frozen Seafood Co., Ltd.

70. Yantai Wei-Cheng Food Co., Ltd.

71. Yantai Xinlai Trade

72. Zhangjiang Bobogo Ocean Co., Ltd.

73. Zhanjiang Go-Harvest Aquatic Products Co., Ltd.

74. Zhanjiang Regal Integrated Marine Resources Co., Ltd.

75. Zhanjiang Runhai Foods Co., Ltd.

76. Zhanjiang Universal Seafood Corp

77. Zhejiang Cereals, Oils & Foodstuff Import & Export Co., Ltd.

78. Zhejiang Daishan Baofa Aquatic Products Co., Ltd.

79. Zhejiang Evernew Seafood Co., Ltd.

80. Zhejiang Xingyang Import & Export

81. Zhejiang Xintianjiu Sea Products Co., Ltd.

82. Zhejiang Zhenlong Foodstuffs Co., Ltd.

83. Zhenjiang Evergreen Aquatic Products Science & Technology Co., Ltd.

84. Zhoushan Cereals, Oils, and Foodstuffs Import and Export Co., Ltd.

85. Zhoushan Diciyuan Aquatic Products

86. Zhoushan Guotai Aquatic Products Co., Ltd.

87. Zhoushan Haichang Food Co

88. Zhoushan Huading Seafood Co., Ltd.

89. Zhoushan Industrial Co., Ltd.

90. Zhoushan Jingzhou Aquatic Product Co., Ltd.

91. Zhoushan Lizhou Fishery Co., Ltd.

92. Zhoushan Putuo Huafa Sea Products Co., Ltd.

93. Zhoushan Xifeng Aquatic Co., Ltd.

94. Zhoushan Zhenyang Developing Co., Ltd.

95. ZJ CNF Sea Products Engineering Ltd.

[FR Doc. E7-16576 Filed 8-21-07; 8:45 am]

BILLING CODE 3510-DS-P